DEPARTMENT OF COMMERCE

Foreign-Trade Zones Board

[B-24-2023]

Foreign-Trade Zone (FTZ) 1, Notification of Proposed Production Activity; Jos. H Lowenstein & Sons, Inc.; (Dyestuff Chemicals for Hair, Fur and, Leather); Brooklyn, New York

The City of New York, grantee of FTZ 1, submitted a notification of proposed production activity to the FTZ Board (the Board) on behalf of Jos. H Lowenstein & Sons, Inc., located in Brooklyn, New York within Subzone 1E. The notification conforming to the requirements of the Board's regulations (15 CFR 400.22) was received on March 29, 2023.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished products include: dye preparations for hair, fur and, leather (various colors); preparations used for leather tanning; preparations used to soak, pickle, bait, finish and, lubricate leather; auxiliary preparations used to process leather; preparations used for leather tanning in the fur tanning and dyeing process; preparations used to lubricate the leather of the fur in the fur tanning and dyeing process; chelating preparations used in the fur tanning and dyeing process; bleach preparations used in the fur tanning and dyeing process; preparations used to finish leather in the fur tanning and dyeing process; auxiliary preparations used to process furs in the fur tanning and dyeing process; stabilizing preparations used to manufacture hair dye products; preparations used to thicken hair dye products; bleach preparations used to manufacture hair dye products; chelating preparations used to manufacture hair dye products; and, preparations based on anionic, cationic and, non-ionic surfactants (duty rate ranges from duty-free to 6.5%).

The proposed foreign-status materials and components include: coal tar dyes (benzene, naphthalene, anthracene, furan, pyrrole, pyridine, indole, indoline, benzofuran, quinoline, imidazole, pyrazole and, pyridazine); disperse dyes (various colors); acid dyes (various colors); basic dyes (various colors); direct dyes (various colors); vat dyes (various colors); reactive dyes (various colors); pigment dyes (various colors); hemi-cyanine dyes (various colors); food, drug and, cosmetic certified dyes (various colors); sulfur dyes (various colors); fluorescent brightening agents; color lakes (various colors); aquamarine coloring matter pigments; pigments based on iron oxide (various colors); thermochromic dyes (various colors); titanium oxides; titanium dioxide based pigments >80%; titanium dioxide based pigments <80%; vegetable based dyes (sumac, tara, henna, cassia, myrabalan and, caramel); carbon black; activated carbon; surfactants based on ethoxylated fatty acids, ethoxylated fatty alcohol and their ethers; surfactants based on ethoxylated alkylphenols; surfactants based on fatty acids of coconut oil; surfactants based on fatty acids of soybean oil; surfactants based on N-acyl sarcosinates; surfactants based on ethoxylated tallow amines; surfactants based on quaternary ammonium compounds; surfactants based on sorbitan; surfactants based on ethoxylated alkyl alcohols (branched or unbranched); surfactants based on ethoxylated fatty amines; surfactants based on sulfated fatty acid; surfactants based on alkylsulfonic acids; surfactants based on alkylaryl and µ-olefin sulfonates; acrylic acid (polymers, copolymers and, modified acrylic polymers); silicones, siloxanes, methicones and, their derivatives; chelating agents based on edetic acid, hydroxyethylethylenediaminotriacetic acid, diethylenetriaminepentaacetic acid, nitrilotriacetic acid, glycine, N,N-BIS(2-hydroxyethyl)-, sodium and, trimethylenediaminetetraacetic acid; 1,3-BIS(hydromethyl)-5,5-dimethylhydantoin; 2-(2-ethoxyethoxy)ethanol; 3-amino-4 ethoxy-acetanilide; 3-aminobenzoic acid; 4-methyl-7-diethylaminocoumarin; 4-nonylphenol polyethylene glycol ether in phenethyl alcohol; 8-hydroxyquinoline; acetic acid; adipic acid; alkyl(c10-16)benzenesulfonic acid; aluminum sulfate; aluminum triformate; amino ethyl ethanolamine; amino methyl propanol; ammonium acetate; ammonium alum; ammonium bicarbonate; ammonium bifluoride; ammonium persulfate; ammonium phosphate; ammonium sulfate; ammonium sulfite; ammonium thioglycolate; anthranilic acid; aqua ammonia; barium chloride; behenic acid; behenyl alcohol; bentonite; benzaledhyde synthetic; benzyl alcohol; bismuth citrate; blend of 2,4,7,9-tetramethyl-5-decyne-4,7-diol; blend of acid protease and pepsin; blend of benzyl alcohol and sodium benzoate and potassium sorbate in water; blend of BIS-lauryl cocaminopropylamine/hexamethylene diisocyanate/polyethylene glycol-100 copolymer and butylene glycol; blend of cetearyl alcohol, dicetyl phosphate and, ceteth-10 phosphate; blend of coco amides and caprylate amides; blend of cottonseed oil, castor oil and, paraffin waxes; blend of D-glucose, decyl octyl ethers and, (C10-16)alkyl D-glycopyranoside; blend of hydroxypropyltrimonium honey and water; blend of lecithins and parrafin waxes; blend of polyethylene glycol-6 and polyethylene glycol-32; blend of polyglyceryl-10 oleate and polyglyceryl-3 oleate; blend of polyglyceryl-4 laurate/succinate; blend of sodium naphthalenesulfonic acid-formaldehyde and phenolsulfonic acid-formaldehyde-urea polymer; blend of sulfurous acid, monosodium salt, reaction products with formaldehyde and 4,4′-sulfonylbis[phenol] and benzenesulfonic acid, hydroxy-, reaction products with formaldehyde and urea, ammonium salts; blend of tetrakis(hydroxymethyl)-phosphonium sulfate; blend of whey protein concentrate and soy lecithin; blend of cetyl-stearyl alcohol; blends containing polyquaternium-37 and propylene glycol dicaprylate-1 trideceth-6; boric acid; bromamine acid; C12-C15 alkyl benzoate; calcined kaolin; calcium carbonate; calcium hypochlorite; calcium silicate; ceateryl alcohol; cetyl alcohol; cetyl trimethyl ammonium bromide; chalk; cherry fragrance; chloramine black; chrome potassium alum; chromium (III) sulfate; citric acid; cobalt acetate; cocamide diisopropanolamide; cocamide monoethanolamide; cochin coconut oil; copper acetate; copper sulfate; cuprous chloride; cyclohexanol; degras; dextrin; dialdehyde starch; diatomaceous earth, kieselguhr; dibutyl adipate; diethanolamine; diethylene glycol; diethylene glycol monoethyl ether; diisodecyl adipate; dimethylol urea; dipropylene glycol monoethyl ether; disodium phosphate; distillates (petroleum), hydrotreated light; D-mannitol; dolomite; ethylene chlorhydrin; ethylene glycol; ethylene glycol monohexyl ether; ethylene glycol monostearate; formaldehyde; formic acid; fumaric acid; gallic acid; gluconic acid; glutaraldehyde; glycerine; glyceryl monooleate; glycine; glycol distearate; glyoxal; glyoxalic acid; guanidine carbonate; gum arabic; gum ghatti; gum karaya; gum tragacanth; haematine; hexamethylene tetramine; hexylene glycol; hydroabietyl alcohol; hydrogenated castor oil-sebacic acid copolymer; hydrolyzed collagen; hydrolyzed wheat protein; hydrotreated light distillate; hydroxyacetic acid; hydroxyethyl cellulose; hydroxylamine sulfate; hydroxylpropyl methylcellulose; hydroxypropyltrimonium hydrolyzed collagen; iron (II) sulfate; iron (III) sulfate; iron oxide red; iron oxide yellow; isoascorbic acid; kaolinite; lactic acid; lanolin; lard; lard oil; lauryl alcohol; l-cysteine; lead acetate; lipase; logwood powder; magnesium oxide; magnesium stearate; M-aminophenyl urea HCL; manganese sulfate; methacrylamide; methyl ester, soybean oil; methyl isobutyl ketone; methyl papaben; mineral spirits odorless; monoethanolamine; monoisopropanolamine; muriatic acid; N-alkyldimethyl benzyl ammonium chloride; naphtha(petroleum), hydrotreated heavy; napthenic oil; neatsfoot monoglyceride; neatsfoot oil; N-ethyl-2-pyrrolidinone; nickel sulfate; nitric acid; nutgalls; oleamidopropyl dimethylamine; oleic acid; oleic acid monoisopropanolamide; oleyl alcohol; oxalic acid; P-amino acetanilide; pancreatin; polyethylene glycol 100 stearate; polyethylene glycol copolymer; polyethylene glycol-100 stearyl ether dimer; polyethylene glycol-12 oleate; polyethylene glycol-150 distearate; polyethylene glycol-18 glyceryl oleate/cocoate; polyethylene glycol-400 monostearate; polyethylene glycol-50 tallow amide; polyethylene glycol-75; pepsin; perchloroethylene; petroleum, hydrotreated heavy naphthenic; phenacetin; phosphoric acid; pine oil; polyphosphoric acid; polyquaternium-10; polyquaternium-11; polyquaternium-6; polyvinyl pyrrolidone; potasium bitartrate; potasium persulfate; potassium alum; potassium carbonate; potassium dichromate; potassium ferricyanide; potassium hydroxide; potassium permanganate; propyl paraben; propylene glycol; protease; pyrogallic acid; quebracho extract; quebracho solid; reaction products of hydrolyzed wheat protein and lauryl chloride; sal ammoniac; silicone dioxide; silk amino acids; sodium 2,2′-([1,1′-biphenyl]-4,4′-diyldi-2,1-ethenediyl)bis-benzenesulfonic acid; sodium acetate; sodium alkyl benzenesulfonic acid; sodium ascorbate; sodium benzenesulfonic acid, mono-c10-16-alkyl derivatives; sodium bicarbonate; sodium bisulfate; sodium carbonate; sodium carbonate peroxide; sodium carboxymethylcellulose <90%; sodium carboxymethylcellulose >90%; sodium chloride; sodium citrate; sodium coco hydrolyzed animal protein; sodium dichromate; sodium dioctyl sulfosuccinate; sodium dodecylbenzene sulphonate; sodium formaldehyde sulfoxylate; sodium formate; sodium gluconate; sodium hexametaphosphate; sodium hydrosulfite; sodium hydroxide; sodium hydroxymethanesulphinate; sodium hypophosphite; sodium isoascorbate; sodium lauryl sulfate; sodium lauryl sulfoacetate; sodium lignosulfonate; sodium l-pyrrolidonecarboxylate; sodium metabisulfite; sodium metasilicate; sodium methyl oleoyl taurate; sodium naphthalenesulfonic acid; sodium naphthalenesulfonic acid-formaldehyde copolymer; sodium napthionate; sodium O-phenylphenate; sodium perborate; sodium percarbonate; sodium persulfate; sodium phosphate; sodium silicate; sodium stannate; sodium stearate; sodium sulfate; sodium sulfide; sodium sulfite; sodium tetraborate; sodium thiosulfate; sodium triphosphate; solvent naptha(petroleum), light aromatic; sorbitan monooleate; soy lecithin; stannous chloride; starch (corn and wheat); steardimonium hydroxypropyl hydrolyzed wheat protein; stearic acid; stearyl alcohol; sulfamic acid; sulfonated castor oil; sulfonated neatsfoot oil; sulfur; sulfuric acid; tall oil fatty acids; tallow; tannic acid; tartar emetic; tartaric acid; tetrakis(hydroxymethyl)phosphonium sulfate; tetrasodium pyrophosphate; thioglycolic acid; thiourea dioxide; toluene sulfonic acid; tributyl phosphate; triethanolamine; tripropylene glycol methyl ether; trisodium citrate; trisodium phosphate; urea; vinylpyrrolidone/vinyl acetate copolymer; vinylpyrrolidone/dimethylamino propylacrylamide copolymer; wattle extract powder; wattle solid; white mineral oil; white petrolatum; wool grease; xanthan gum; zinc formaldehyde sulfoxylate; zinc hydrosulfite; zinc oxide; zinc sulfate; and, zirconium sulfate (duty rate ranges from duty-free to 6.5%). The request indicates that certain materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is May 17, 2023.

A copy of the notification will be available for public inspection in the “Online FTZ Information System” section of the Board's website.

For further information, contact Christopher Wedderburn at Chris.Wedderburn@trade.gov.

Dated: April 4, 2023.
Elizabeth Whiteman,
Acting Executive Secretary.

[FR Doc. 2023-07351 Filed 4-6-23; 8:45 am]

BILLING CODE 3510-DS-P